DEPARTMENT OF COMMERCE

National Institute of Standards and Technology

Proposed Information Collection; Comment Request; Usage of Elevators for Occupant Evacuation Questionnaire

AGENCY: National Institute of Standards and Technology (NIST), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 31, 2011.

ADDRESSES: Direct all written comments to Diana Hynek, Departmental Paperwork Clearance Officer, Department of Commerce, Room 6616, 14th and Constitution Avenue, NW., Washington, DC 20230 (or via the Internet at dHynek@doc.gov).

FOR FURTHER INFORMATION CONTACT: Requests for additional information or copies of the information collection instrument and instructions should be directed to Erica Kuligowski, erica.kuligowski@nist.gov, 301-975-2309.

SUPPLEMENTARY INFORMATION:

I. Abstract

NIST's research on elevators has primarily focused on the technical aspects of ensuring safe and reliable evacuation for the occupants of tall buildings. In addition, the International Code Council and the National Fire Protection Association provide requirements for the use of elevators for both occupant evacuation and fire fighter access into the building. However, there still is little understanding of how occupants use elevator systems during fire emergencies.

The main focus of this research effort is to gain an understanding of how elevators are currently used by occupants of existing multi-story buildings in the United States during fire emergencies. This research aims to summarize emergency plans and procedures from buildings that make use of one or multiple elevators from the existing elevator system (used for normal building traffic) for the evacuation of building occupants during fire emergencies. Building managers and designated safety personnel from existing buildings in the United States, including federal buildings, will be contacted to fill out a questionnaire asking about how the buildings' evacuation plans incorporate the use of the existing elevator system to evacuate occupants during fire emergencies, specifically individuals with disabilities, if at all.

II. Method of Collection

This data will be collected electronically. Questionnaires will be made available on a secured website and the link to this website will be distributed by NIST staff to building property managers and designated safety personnel.

III. Data

OMB Control Number: None.

Form Number: None.

Type of Review: Regular submission (new information collection).

Affected Public: Selected individuals, such as building managers and designated safety personnel, who are familiar with or in charge of developing emergency procedures for multi-story buildings in the United States, including both federal and private sector buildings.

Estimated Number of Respondents: 1,500.

Estimated Time per Response: 15 minutes.

Estimated Total Annual Burden Hours: 375.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 25, 2011.
Gwellnar Banks,
Management Analyst, Office of the Chief Information Officer.

[FR Doc. 2011-7559 Filed 3-30-11; 8:45 am]

BILLING CODE 3510-13-P